DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 28, 2015.

FOR FURTHER INFORMATION CONTACT: Ms. Caryl Grant, National Public Liaison, CL:NPL:SRM, Rm. 7559, 1111 Constitution Avenue NW., Washington, DC 20224.

Phone: 202-317-6851 (not a toll-free number). Email address: PublicLiaison@irs.gov.

SUPPLEMENTARY INFORMATION: Notice is hereby given pursuant to section 10(a)(2) of the Federal Advisory Committee Act, 5 U.S.C. App. (1988), that a public meeting of the IRPAC will be held on Wednesday, October 28, 2015 from 9:00 a.m. to 12:00 p.m. at Residence Inn Marriott, 1199 Vermont Avenue NW., Washington, DC 20005. Report recommendations on issues that may be discussed include: Foreign Account Tax Compliance Act; TIN Matching; W-9 Revision; Assisting SBSE and OSP to Improve the Penalty Abatement Process and RCA; Suggestions for Improvements to the IRS Use of FAQs; Electronic Transmittal of Employer Withheld IRS Tax Levy Proceeds; Pensions and IRA Complications; Publication 1586 Revision, Reasonable Cause Regulations & Requirements for Missing and Incorrect Name/TINs; Theft of Business Taxpayer's Identity; Publications and Forms Changes; Reporting by Insurance Companies and Third Parties under § 6055 and § 6056; ACA Education; IRC § 6050W and Form 1099-K Reporting; Form 1099-B Aggregate Reporting of Sales; Transfers of Section 1256 Options; Complex Debt Reporting Requirements; Form 1098-T. Last minute agenda changes may preclude advance notice. Due to limited seating and security requirements, please call or email Caryl Grant to confirm your attendance. Ms. Grant can be reached at 202-317-6851 or PublicLiaison@irs.gov. Should you wish the IRPAC to consider a written statement, please call 202-317-6851, or write to: Internal Revenue Service, Office of National Public Liaison, CL:NPL:SRM, Room 7559, 1111 Constitution Avenue NW., Washington, DC 20224 or email: PublicLiaison@irs.gov.

Dated: October 6, 2015.
John Lipold,
Designated Federal Official, Branch Chief, National Public Liaison.

[FR Doc. 2015-26198 Filed 10-14-15; 8:45 am]

BILLING CODE 4830-01-P